DEPARTMENT OF STATE

[Public Notice: 10842]

U.S. Advisory Commission on Public Diplomacy; Notice of Meeting

The U.S. Advisory Commission on Public Diplomacy will hold a public meeting from 10:00 a.m. until 12:00 p.m., Wednesday, September 4, 2019, at the Elliott School of International Affairs at George Washington University in the Lindner Family Commons, Room 602 (1957 E Street NW, Washington, DC 20052). The focus of the meeting will be the creation of the new Global Public Affairs Bureau and the accompanying strategic vision for Public Diplomacy going forward in the Department of State.

This meeting is open to the public, including the media and members and staff of governmental and non-governmental organizations. Any requests for a reasonable accommodation for a disability should be sent by email to Vivian Walker at WalkerVS@state.gov by 5:00 p.m. on Wednesday, August, 28, 2019. Attendees should plan to arrive for the meeting by 9:45 a.m. to allow for a prompt start.

The U.S. Advisory Commission on Public Diplomacy appraises U.S. government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

For more information on the U.S. Advisory Commission on Public Diplomacy, please visit https://www.state.gov/bureaus-offices/under-secretary-for-public-diplomacy-and-public-affairs/united-states-advisory-commission-on-public-diplomacy/. For more information on the upcoming public meeting, contact the Commission's Executive Director, Vivian S. Walker, at WalkerVS@state.gov.

Vivian S. Walker,
Executive Director, Advisory Commission on Public Diplomacy, Department of State.

[FR Doc. 2019-16981 Filed 8-7-19; 8:45 am]

BILLING CODE 4710-45-P